DEPARTMENT OF COMMERCE

Minority Business Development Agency

[Docket No: 980901228-2207-03]

Solicitation of Applications for the Minority Business Opportunity Committee (MBOC) Program

AGENCY: Minority Business Development Agency, Commerce.

ACTION: Notice.

SUMMARY: The Minority Business Development Agency (MBDA) is soliciting applications from organizations seeking to operate Minority Business Opportunity Committees (MBOC). Applications are being solicited from all geographical areas within the United States, including the Commonwealth of Puerto Rico and the Virgin Islands. MBDA anticipates funding one (1) MBOC within each of the geographic regions listed under “For Further Information Contact, Pre-Application Conference”. In order for their proposals to receive consideration, applicants must comply with all information and requirements contained in this notice and the Application Package (AP).

MBDA is an entrepreneurially focused and innovative organization that is committed to empowering minority business enterprises (MBEs) and creating wealth-building opportunities. MBDA fosters the creation, growth and expansion of MBEs in America by providing business development services, tools (e.g.. Minority Business Internet Portal http://www.mbda.gov) and programs. Each program is designed to focus on the unique business problems of a specific market. MBDA's programs form a national business delivery network that addresses the needs of minority entrepreneurs throughout the United States. The MBOC program is designed to provide minority entrepreneurs with enhanced access to markets, capital, and information. This is accomplished by identifying contracts, business ownership, marketing, sales, financing, and joint venture opportunities, to position MBEs for long-term growth. State or local government entities, American Indian Tribes, colleges, universities, non-profit, and for-profit organizations are eligible to operate MBOCs.

This solicitation incorporates the new requirement that MBOCs utilize information technology to collect and disseminate information for and about MBEs. Additionally this solicitation requires that MBOCs install systems whereby information regarding performance measures can be electronically transmitted to MBDA. (See Computer Requirements.)

DATES: The closing date for applications is October 18, 2002. Completed applications for the MBOC program must be: (1) Mailed (USPS postmark) to the address below; or (2) received by MBDA at the address below no later than 5:00 p.m. Eastern Daylight Time. It is strongly recommended that applicants utilize an overnight mail delivery service to ensure timely receipt of applications. Applicants using this service must ensure that applications are received by MBDA by 5 PM Eastern Daylight Time. Applications postmarked later than the closing date will not be considered. MBDA anticipates that awards will be made with a start date of January 1, 2003.

ADDRESSES: Applicants must submit one signed original plus two (2) copies of the application. Completed application packages must be submitted to: Minority Business Opportunity Committee Program Manager, Office of Executive Secretariat, HCHB, Room 5063, Minority Business Development Agency, U.S. Department of Commerce, 1401 Constitution Avenue, NW., Washington, DC 20230.

If the application is hand-delivered by the applicant or its representative, the application must be delivered to Room 1874, which is located at Entrance #10, 15th Street, NW., between Pennsylvania and Constitution Avenues.

FOR FURTHER INFORMATION CONTACT: For further information and an Application Package contact Stephen Boykin, the MBOC Program Manager, at (202) 482-1712.

Pre-Application Conference: A pre-application conference to answer questions related to the solicitation will be conducted. Contact the MBDA Regional Office for the date and time. There are five (5) Regions. They are comprised as follows:

1. San Francisco Region, located at 221 Main Street, Suite 1280, San Francisco, CA 94105. This region covers the states of Alaska, American Samoa, Arizona, California, Hawaii, Idaho, Nevada, Oregon and Washington. Contact Melda Cabrera, Regional Director at 415-744-3001.

2. Dallas Region, located at 1100 Commerce Street, Suite 7B-23, Dallas, TX 75242. This region covers the states of Arkansas, Colorado, Louisiana, Montana, New Mexico, North Dakota, Oklahoma, South Dakota, Texas, Utah and Wyoming. Contact John Iglehart, Regional Director at 214-767-8001.

3. Chicago Region, located at 55 E. Monroe Street, Suite 1406, Chicago, IL 60603. This region covers the states of Illinois, Indiana, Iowa, Kansas, Michigan, Minnesota, Missouri, Nebraska, Ohio and Wisconsin. Contact Carlos Guzman, Acting Regional Director at 312-353-0182.

4. Atlanta Region, located at 401 W. Peachtree St., NW., Suite 1715, Atlanta, GA 30308. This Region covers the states of Alabama, Florida, Georgia, Kentucky, Mississippi, North Carolina, South Carolina, Tennessee, and the Commonwealth of Puerto Rico and the Virgin Islands. Contact Robert Henderson, Regional Director at 404-730-3313.

5. New York Region is located at 26 Federal Plaza, Room 3720, New York, NY 10278. This Region covers the states of Connecticut, Delaware, Maine, Maryland, Massachusetts, New Hampshire, New Jersey, Pennsylvania, Rhode Island, Vermont, Virginia, West Virginia and Washington, DC. Contact Hayward Davenport, Regional Director at 212-264-3262.

SUPPLEMENTARY INFORMATION: Authority: Executive Order 11625 and 15 U.S.C. 1512.

Catalogue of Federal Domestic Assistance (CFDA): 11.803, Minority Business Opportunity Committee Program.

Program Description

The Minority Business Development Agency (MBDA) is a part of the U.S. Department of Commerce. MBDA was created in 1969 through Executive Order; it is the only Federal agency created specifically to foster the establishment and growth of minority-owned businesses in America. MBDA provides assistance to socially or economically disadvantaged groups who own or wish to start or expand their own businesses. The disadvantaged groups that MBDA serves include African Americans, Native Americans, Puerto Ricans, Spanish-speaking Americans, Eskimos, Aleuts, Asian Indians, Asian Pacific Americans, and Hasidic Jews. The MBOC Program strives to help this population segment to achieve entrepreneurial parity by actively facilitating the deployment of resources to enable the minority business community to grow and compete in the U.S. and global economies.

The Minority Business Opportunity Committee (MBOC) is a local volunteer organization comprised of high-level, public and private sector executives. These executives are dedicated to forming alliances that plan, coordinate, create and deliver innovative policies, programs, and strategies that significantly accelerate the level of entrepreneurial activity within the minority business community. MBOCs encourage greater participation and interaction between majority and minority business owners. The primary and long-range goal of an MBOC is to increase opportunities for minority entrepreneurs to obtain additional capital, management skills, and market penetration.

In order to accomplish these goals, MBOCs perform the following functions:

—Serve as local centers of influence to increase levels of communication between MBOC memberships and the local minority business community and to facilitate the development of strategies leading to more financial transactions between the majority and minority business community.

—Identify and facilitate wealth-creating and economy-stimulating opportunities within the minority business sector.

—Develop approaches for disseminating wealth-building information to the minority business communities.

—Identify barriers to economic growth and develop strategic solutions for overcoming these barriers, particularly in the area of capital, management and market penetration (Money, Management, and Market—3 M's).

—Serve as community advocates for the full inclusion of minority businesses in the economic life of the community.

—Serve as mentoring entities for minority businesses.

—Serve as strategic partners to blend core competencies and leadership capabilities of MBOC membership with the complementary strengths and capabilities of minority businesses.

The purpose of the MBOC Program is to move the minority business community into the business mainstream as a viable contributor to the economy. The primary objectives of MBOCs are to increase opportunities for minority-owned companies to access capital and markets, and to develop institutional capability at the local level for continuing minority business success.

Background

The MBDA has established the MBOC Program as a vehicle for providing timely market leads, access to capital, resources, and current business information. MBOCs assist MBEs seeking to market their products and services within the local economy. In accomplishing this purpose, MBOCs help to facilitate economic parity and to bring coordination and synergy to the MBE development efforts taking place within an applicant-defined geographical service area.

MBOCs are typically comprised of local governments, business and industry leaders, and representatives of organizations that conduct substantial purchasing within the regional economy. These representatives should have the authority to influence their respective organizations to be responsive to the needs of MBEs. MBOC member organizations may include large corporations, federal, state, and local governments, banking and financial institutions, chambers of commerce, community development organizations, training organizations, trade associations, economic development groups, quasi-public entities (transit authorities, ports, stadium authorities, and public utilities), and non-profit entities to include hospitals, colleges, and universities. Industries represented on the MBOC should include, where appropriate, transportation, construction, travel and tourism, high technology, health care, telecommunications, manufacturing, retailing, and other sectors of the local economy that generate, or have the potential to generate, sales, and business ownership opportunities. Participation on the MBOC of a broad cross-section of government and industry executives helps to ensure that MBEs have access to a breadth of information concerning market opportunities. The purpose of the MBOC Program is to increase entrepreneurial endeavor and promote the full inclusion of MBEs in the overall economy.

Enhancing the MBOCs Through Technology

Over the past three years, MBDA has developed a variety of new technology tools designed to leverage the benefits of information technology to assist the MBE community. The goal of MBDA is to deploy technology enhancements to all of MBDA's funded organizations and create a state-of-the-art environment for the benefit of minority businesses. The MBDA will provide continuously updated information, access to resources anywhere in the country, and the best available assistance in any given subject area. The implementation of this strategy is the Minority Business Internet Portal (MBIP). Technology tools that will be made available to the MBOCs through MBDA's MBIP site include:

Phoenix/Opportunity—an electronic bid-matching system that alerts participating minority companies of contract and teaming opportunities directly via e-mail or fax. Procurement leads are transmitted to minority firms on a targeted basis according to the company's industry classification and geographic market. Firms seeking to participate in this program need only to transmit their company profile to MBDA online via the Agency's Phoenix application.

Resource Locator—a new and unique software application that allows MBEs to search for business resources and locate them on a map—interactively on the Internet. Resource Locator can help minority firms identify trade associations representing their industries, government licensing and permit offices, management and technical assistance providers, and a host of other resources quickly and efficiently, through Geographic Information System (GIS) technology.

Online Commercial Loan Identifier—an Internet-based tool that allows minority enterprises to shop for commercial loans online, and identify the best available financing terms. The Commercial Loan Identifier is designed to give minority firms the benefit of a nationwide market for commercial loan products.

Business and Market Planning Software—software packages to streamline and enhance the development of business plans, marketing plans and other strategic business documents.

The MBIP will serve as a very effective vehicle for enhancing the scope and service capability of the MBOC network. Through the portal site, each MBOC will receive standardized electronic business development tools and applications. The portal site will allow each MBOC access to the latest information regarding best practices, emerging market trends, success strategies, and other activities in the minority business development arena.

Work Requirements

Applicants should first include a description in their proposals showing how they intend to establish a detailed organizational and functional framework for the management and operation of the MBOC. The applicant must demonstrate how the operational structure of the MBOC will function and be financed. For example, the applicant should indicate how a program will be developed to recruit members from the federal, state, local and private sector organizations, and how the applicant intends to operate the MBOC in terms of meetings and the establishment of subcommittees or task forces. In addition, the selection of key personnel, such as a chairperson and executive director to manage the MBOC on a daily basis, is important.

At the onset of the project, MBDA works closely with the successful applicant to ensure that an Executive Director is in place within 30 days of receipt of the award. The Executive Director is approved by MBDA and must be an individual who is able to carry out the responsibility of this full-time position. The Executive Director and the MBOC chairperson, a high level volunteer member of the MBOC, are responsible for accomplishment of the goals and objectives of the MBOC. The Chairperson, appointed by the recipient, should be a senior ranking executive and is expected to serve a minimum of two years. The role of the Chairperson is critical to the overall success of the MBOC, as this individual is primarily responsible for liaison with the business community. The MBOC Executive Director occupies a position funded by MBDA. On a day to day basis the MBOC Executive Director's role is to provide continuity, professional and program guidance, and information and assistance to the overall committee.

In designing its MBOC proposal, the applicant should note that there are eight core areas in which activities must be conducted. MBDA encourages applicants to submit proposals that are “tailored” to their defined markets. Said applicants should also display the imagination and innovation they propose to carry out the activities in the core areas, to obtain the maximum business development impact. Every project proposed should specifically target those socially or economically disadvantaged groups, which MBDA serves in accordance with Executive Order 11625 and/or reach out to such groups within a broader community. Socially or economically disadvantaged refers to individuals and communities that are subject to barriers that limit or prevent their access to the marketplace. These barriers may be related to geographical location, capital, information, or management skills.

(1) Access to Markets—MBOCs should promote relationship-building and the sharing of information between substantial purchasing organizations, in the applicant-defined geographical service area, and MBE's that provide the services and products sought by these organizations. MBOCs must make full use of MBDA's Portal, which includes but is not limited to, the Phoenix and Opportunity applications (OMB No. 0640-002). MBOCs should request businesses to enter information into the Phoenix database. MBOCs should also enter opportunities in the Opportunity database. The MBOCs will serve as a clearinghouse both for minority companies seeking timely contract opportunities, and for mainstream institutions seeking to identify particular categories of minority suppliers. The MBOC should collect and disseminate procurement opportunity information to the MBE community, and engage in matchmaking activities between public/private sector purchasers and MBE suppliers.

(2) Access to Capital—MBOCs should work to create an environment within the finance and investment community that fairly values the business assets of minority-owned companies. Whether these assets are in the form of property, plants or equipment located in minority communities, a workforce which consists largely of minority employees or the character and credit-worthiness of an individual minority business owner, the MBOC should help to ensure that the capital markets evaluate these assets objectively, and provide minority companies with access to capital on a nondiscriminatory basis. In addition to helping to ensure the availability of debt financing sources such as commercial banks and government-sponsored loan and/or loan guaranty programs, MBOC activities should include assisting in the identification of sources of equity capital for minority firms, such as venture capital funds, institutional investors (insurance companies, pension funds, etc.), and high net-worth individuals.

(3) Contracts and Financial Instruments—Facilitate the award of contracts, loans, bonds, and other instruments to minority entrepreneurs by being directly involved as the intermediary between MBOC members who have the ability to make a contract award or provide a loan and MBEs who have the ability to perform the contract or have a financial need for capital, resulting in completed transactions.

(4) Sustained Advocacy on Behalf of the MBE Sector—MBOCs should play a clear and highly visible role in articulating the benefits, which are derived from the full participation of the relevant MBE sector. MBOC leadership, including government officials, private sector executives, and other designated representatives of the MBOC should conduct media outreach, disseminate economic data, and otherwise advocate for inclusion of MBE's in the region's economic mainstream. Activities in this area include, the establishment of a Web Page and access to MBDA's Minority Business Internet Portal, the establishment of a newsletter, conducting workshops, making media appearances, attending trade fairs, participating in Minority Enterprise Development (MED) Week activities, and ensuring that achievements of the MBOC are communicated regularly to the corporate community, elected officials, and trade and industry groups. MBOCs should sponsor workshops and seminars on topics that promote utilization of minority-owned companies within the regional economy. Such activities may be directed at minority businesses, for example, arranging and promoting workshops on marketing to corporate and institutional clients, or may be directed at the mainstream business community, such as workshops on structuring diversity programs for procurements, or both. Workshops, conferences, and seminars should be designed by the MBOC leadership based on those topics which best address the needs and opportunities present within that MBOC's particular service area. For instance, an MBOC might participate in or develop educational activities to promote export opportunities for minority businesses. In addition to being a consistent vehicle for the promotion of the economic benefits of a healthy minority business sector, the MBOC should develop and set forth recommendations for changing procurement, banking, or other practices which may impede the growth of minority firms.

(5) Business Ownership Opportunities—Lack of succession, corporate divestitures, and other fortuitous circumstances often create opportunities for entrepreneurs to acquire companies. The key to identifying such opportunities is establishing relationships with corporate decision-makers, banking executives, suppliers and others having first-hand knowledge of such companies' conditions. The MBOC should develop local programs to bring entrepreneurial and business ownership levels in line with minority population percentages (Parity) and serve as a vehicle for bringing members of the minority and non-minority business communities together through the following activities: networking, subcommittee assignments, and other activities designed to promote the sharing of information. In addition, the MBOC should assist minority executives and managers within the corporate sector who have an interest in leveraging their current expertise through business acquisitions.

(6) Entrepreneurship—In light of the continuing low formation rate of minority businesses, MBOCs should direct some of their activities, including the use of events, conferences or workshops, to promoting the creation of entrepreneurial attitudes in the business community by extolling the benefits of business ownership. MBOCs should also sponsor activities designed to cultivate business ownership as a vocation among minority youth.

(7) Resource Development—The MBOC should maintain a constant inventory of the various resource providers within the project's service area that offer services that could assist minority companies. Such resource providers may include banks and other financial institutions, bonding companies, business consultants, chambers of commerce and other networking groups, trade associations active in all viable local industries, state, local and private technical assistance providers, etc. Resource development should also include the MBOC's ongoing analysis of procurement and financial transaction data on its members and participants to enhance the development of strategies to overcome barriers to economic growth and development and to allow tracking of minority business activities.

(8) Operational Quality—MBOCs must maintain the efficiency and effectiveness of their overall operations. The following considerations are means by which an MBOC maintains the efficiency and effectiveness of its overall operations as well as the quality of its efforts. This requirement directly contributes to an MBOC's overall qualitative evaluation and rating as well as the successful completion of all other work requirements. Under this work requirement, the MBOC shall: (1) Input progress/results to the Performance database in a timely manner; (2) comply with all reporting requirements; (3) cooperate with MBDA in maintaining content for the Phoenix/Opportunity database, Resource Locator, and other online tools located at http://www.mbda.gov; and (4) promote and utilize the services and resources of other MBDA programs, sponsored efforts and/or voluntary activities. The MBOC shall identify MBDA as the funding sponsor by providing signs worded as follows:

_____ Minority Business Opportunity Committee (geographic area) Operated by _____. Funded by: MINORITY BUSINESS DEVELOPMENT AGENCY (MBDA), U.S. DEPARTMENT OF COMMERCE.

These signs should be highly visible to the general public. They should be prominently displayed on entrances and doors. Include the name of MBDA on all stationery, letterhead, brochures, etc. The MBOC is not authorized to use either the Department's official seal or the MBDA logo on any of its publications, documents or materials without specific written approval from the U.S. Department of Commerce. Identify the MBOC immediately when answering the telephone. If the recipient also requires that its organization's name be given, it should be provided only after the MBOC has been verbally identified to the caller. Refer to MBDA in all advocacy and outreach efforts such as speaking engagements, news conferences, etc.

Computer Requirements

MBDA requires that all award recipients meet certain computer and technology requirements related to the acquisition, installation, configuration, maintenance and security of information technology (IT) assets, in order to ensure seamless and productive interface between and among all grant recipients, the MBDA Information Technology system, and the public. These required assets and their configuration are hereinafter referred to as the “enterprise.” At a minimum, each grantee shall have one (1) desktop computer for the exclusive use of the MBOC. The basic component of the enterprise will be for the desktop workstation to be connected to the Internet using a high-speed Internet connectivity. If the recipient chooses to have more than one desktop computer, the basic component of the enterprise will be for the desktop workstations to be networked together and connected to the Internet using high-speed Internet connectivity.

The desktop computer/network shall have a constant, active connection to the Internet during all business hours. The recipient shall ensure that it has an E-mail capability with a unique electronic mail (email) address available to the public. Each grantee shall design, develop and maintain, in accordance with the computer requirements, a Web site and shall maintain appropriate computer and network security precautions during all periods of funding by MBDA. All Information Technology requirements, as described herein, shall be met within 30 calendar days after the award.

1. Desktop Workstation: The MBOC Staff will have access to at least one (1) computer workstation. All desktop systems shall be not more than two (2) calendar years old at the time of award and shall contain a processor (CPU) operating at speeds not less than 800 Megahertz (Mhz). Each desktop system shall contain a hard drive with a storage capacity of at least 10 Gigabytes (GB). All desktop systems shall have installed an operating system fully compatible with Microsoft Windows and Microsoft Internet Explorer 5.x or higher. MBDA shall, from time to time, designate certain configurations of the enterprise hardware and software to meet interface requirements.

1. Maintenance and Security: Each recipient shall designate and train one person competent in the operation of a Microsoft Windows compatible workstation. From time to time, MBDA shall require certain software to be loaded on desktops. In any given year, the cost of this additional software should not exceed $200.00 per workstation. Every employee of the Center shall be assigned a unique username and password to access the system. Every employee shall be required to sign a written computer security agreement. (A suggested format for the computer security agreement will be provided at the time of award.) Every manager, employee, and contractor and any other person given access to the computer system shall sign the security agreement and an original copy of the signed agreement shall be kept in the Center's files. A photocopy of the agreement shall be sent by fax to MBDA at: (202) 482-2696 no later than 30 days after the award. All subsequent new hires and associations requiring access to Center or MBDA systems shall read, understand and sign the security agreement prior to issuance of a password. No employee shall have access to the MBDA system without a signed security agreement on file at MBDA.

2. Web Site: Each recipient shall create and maintain a public web site using a unique address (e.g., http://www.mbocname.com). The first page (Index page) of the web site shall clearly identify the recipient as a Minority Business Opportunity Committee, funded by the U.S. Department of Commerce's Minority Business Development Agency. The Index page of the web site shall load on software fully compatible with Microsoft Internet Explorer 4.x (or higher), and Netscape 4.x (or higher), using a normal personal computer with 56Kb/s analog phone line connection in less than ten (10) seconds. The web site shall contain the names of all managers and employees; the business and mailing address of the MBOC; business phone, fax numbers and email addresses of the employees; a statement referencing the services available at the MBOC, the hours of operation; and a link to the MBDA homepage (http://www.mbda.gov).

No third party advertising of commercial goods and services shall be permitted on the site. Advanced written approval for all links from the site to sites other than Federal, state or local government agencies and non-profit educational institutions must be approved. The approval request is made through the Chief Information Officer, MBDA Office of Information Technology Services to the Grants Office, OEAM. Such approval shall not be unreasonably withheld, but approval is subject to withdrawal if MBDA determines the linked site to be unsuitable. No MBOC employee, nor any other person, shall use the web site for any purpose other than that approved under the terms of the agreement between the recipient and MBDA. The recipient for accuracy, currency, and appropriateness shall review every page of the web site every three (3) months. Appropriate privacy notices and handicapped accessibility will be predominately featured. From time to time, MBDA shall audit the recipient's web site and recommend changes in accordance with the guidelines set forth herein.

3. Time for Compliance: Within 30 days after the award, the recipient shall report via email to the Chief Information Officer, MBDA Office of Information Technology Services and the Grants Officer that he/she has complied with all computer and technology requirements as specified herein. Within 30 days after the award, the recipient shall report the name, contact telephone numbers and email addresses of the Project/Executive Director, Network or System Administrator. As appropriate, the recipient shall also provide the telephone number and email address for the Technical Contact at the Internet Service Provider (ISP) providing Internet access for the grantee, the IP number of the Domain Name Server (DNS) and/or Primary Domain Control (PDC) server, and any other technical information as specified in the Technology Requirements.

4. Performance System: All required performance reporting to MBDA shall be conducted via MBDA's Web portal. Within 30 days after the award, each designated MBOC employee shall have satisfactorily completed the Performance Training Course (PSTC). This course is available on-line at www.mbda.gov. Only those persons responsible for entering Performance data shall be given passwords and access to enter Performance data into the system. Only trained staff shall enter data into the Performance system. There shall be no “sharing” of passwords on the Performance system. Although not required, MBDA encourages input of information on a daily basis.

5. Data Integrity: The recipient shall take the necessary steps to ensure that all data entered into MBDA systems, and systems operated by the recipient in support of the award, or by any employee of the recipient is accurate and timely.

Performance Measures

In accordance with 15 CFR Part 14 and 15 CFR Part 24, selected recipients must manage and monitor functions and activities supported by the financial award. Recipients will be required to use program performance measures in semi-annual reports to MBDA, and to provide an end-of-year assessment of the accomplishments of the project using these measures. Applicants are required to set forth semi-annual performance goals and compare the goals to actual performance. The performance of an MBOC will be judged based on an assessment of how well the MBOC has accomplished its quantitative goals and objectives, as well as a management assessment of operational quality through onsite visits or other internal reviews. The applicant is required to submit, as part of its plan under the Techniques and Methodologies evaluation criteria, its proposed levels of performance on a quarterly basis. During the award, the recipient must submit a detailed semi-annual narrative report and year end narrative report that analyzes actual achievements (i.e., success stories, e.g. significant contract awards to MBEs, significant financial transactions to MBEs, facilitation of a major merger or acquisition, etc., variances from planned versus actual goals, and reasons for not meeting goals, etc.), as they compare to the year-to-date (YTD) goal levels.

A recipient's performance will be evaluated on its accomplishment of the Performance Measures set forth below. The overall year to date performance takes into account all the performance indicators and is based on the following rating system:

110 to 90 points equals Excellent

80 to 89 points equals Commendable

70 to 79 points equals Satisfactory

Below 70 is Unsatisfactory performance

MBOC program performance must include the following mandatory quantitative measures. Recipients who do not meet their goals will be assessed points in a proportional amount equal to the numerical goals actually achieved for the rating period.

1. Establish the committee and subcommittees of the MBOC and hold at least twelve (12) regularly scheduled meetings. (5 points)

2. Dollar value of contracting opportunities disseminated. The applicant must propose a reasonable dollar value based on its defined market. (15 points)

3. Dollar value of actual contracts awarded to MBEs. (25 points)

The applicant must propose a reasonable dollar value based on its defined market. The MBOC operator must report, on a semi-annual basis, that the dollar value of contracts awarded to MBE's was the result of MBOC activity or intervention. This report must include the contract award dates, the parties to the contracts, and the dollar value of the contracts. In order to receive credit towards this performance measure, the information in the report must be validated by officials of the awarding entities authorized to commit the awarding entities to binding agreements.

4. Develop Memoranda of Understanding with at least six (6) sources of financing, both debt and equity, for capital development. (10 points)

5. Dollar value of financial transactions completed as a result of MBOC activity or intervention. The applicant must propose a reasonable dollar value based on its defined market. (20 points)

The MBOC operator must report, on a semi-annual basis, that the dollar value of financial transactions awarded to MBEs was the result of MBOC activity or intervention. This report must include the dates of the transactions, the parties to the transactions, and the value of the transactions. In order to receive credit towards this performance measure, the information in the report must be validated by officials of the awarding entities authorized to commit the awarding entities to binding agreements.

6. The number of procurement matches effected through the MBDA's Phoenix-Opportunity database. The applicant must propose a reasonable number of procurement matches based on its defined market. (10 points)

7. The number of Opportunities entered into the Opportunity system. The applicant must propose a reasonable number of Opportunities its organization will enter based on its defined market. (5 points)

8. The number of MBEs entered into the Phoenix system. The applicant must propose a reasonable number of MBEs its organization will enter based on its defined market. (5 points)

In addition to the quantitative goals listed above, a recipient's performance will be measured through a management assessment of operational quality, which refers to the quality and effectiveness of the project operator's day-to-day management of the project. The management assessment reflects MBDA's own evaluation of the overall management of the project based on the agency's onsite or other internal review of the project's operations. The management assessment reflects such areas as proper staffing, timely input to database, appropriate identification of MBDA as a funding source, reporting, record keeping, and any other areas that MBDA may deem relevant to determining the overall quality of the project's operations. (5 points)

Applicants should be mindful of these mandatory quantitative performance measures and must use them when estimating projected project results in their proposals. Applicants are also encouraged to develop and utilize additional performance measures they find meaningful to demonstrate the success of innovative techniques and methodologies. Up to ten (10) Bonus Points will be allowed during the Performance evaluation process for the achievement of any additional measures proposed by the applicant.

Definitions

Dollar Value of Procurements/ Contract Awards: In order for an MBOC to take credit for the dollar value of a contract/procurement award, the award must have been made as a direct result of MBOC membership activity or intervention. For example, MBOC Member A is a construction contractor who is building a library. MBE B owns a drywall company. Through the efforts of the MBOC, Member A awards a contract to MBE B. The MBOC may take credit for that contract award.

Dollar Value of Financial Transactions: The dollar value of completed financial transactions represents the total principal value of approved loans, equity financing, acquisitions, mergers, or other binding financial agreements secured by beneficiaries of the MBOC, with the assistance of project staff. For purposes of this performance measure, eligible financial transactions are those which have a specific dollar value, and which increase the revenues of the beneficiary firm, expand its capital base, or produce some other direct commercial benefit for beneficiary firms. In order to be deemed complete, a financial transaction must be documented by an executed and binding agreement between the beneficiary firm and a party capable of performing its obligations under the terms of the agreement. MBDA recognizes that the financial obligations evidenced by these transactions may be long-term, and require performance over an extended period. Consequently it is not necessary that the funds or other financial value specified under the agreements have actually changed hands for the project to receive credit under this performance element, so long as the agreement of the parties is documented and binding.

Funding Availability: MBDA anticipates that approximately $1.2 million will be available in FY 2003 for Federal assistance under this program. Applicants are hereby given notice that funds have not yet been appropriated for this program. In no event will MBDA or the Department of Commerce be responsible for proposal preparation costs if this program fails to receive funding or is canceled because of other agency priorities.

Financial assistance awards under this program may range from $100,000 to $400,000 in Federal funding per year based upon the size of the market and its need for MBDA resources as evidenced by applicant proposals. Applicants must submit separate project plans and budgets for each year of the three years. The annual awards must have Scopes of Work that are clearly severable and can be easily separated into annual increments of meaningful work which represent solid accomplishments if future funding is not made available to the applicant. Projects will be funded for no more than one year at a time. Funding for subsequent years will be at the sole discretion of the Department of Commerce (DoC) and will depend on satisfactory performance by the recipient and the availability of funds to support the continuation of the project.

Matching Requirements: Cost sharing of at least 25% is required. Additional cost sharing is encouraged. Cost sharing may be in the form of cash, third party in-kind contributions, non-cash applicant contributions or combinations thereof. The share may also be contributed by local, state, and private sector organizations. Some applicants may want to apply jointly for an award to operate an MBOC.

Eligibility Criteria: State or local government entities, American Indian Tribes, colleges, universities, non-profit organizations, and for-profit organizations are eligible to operate MBOCs. Partnerships between the public and private sectors are encouraged.

Award Period: The total project award period is three (3) years. Funding will be provided annually at the discretion of MBDA and the Department of Commerce, and will depend upon satisfactory performance by the recipient and availability of funds to continue the project. Project proposals selected for funding will not be required to compete during subsequent years within the approved project award period. Publication of this notice does not obligate the Department of Commerce or MBDA to award any specific cooperative agreement, or to obligate all or any part of its available funds.

Type of Funding Instrument: Financial assistance awards in the form of cooperative agreements will be used to fund this program.

MBDA's substantial involvement with recipients will include performing the following duties to further the MBOC's objectives:

1. Post-Award Conferences

MBDA will conduct post-award conferences for all new MBOC awards to allow a clear understanding of the program and its objectives. The Agency will:

—Provide an MBOC Handbook, a “How To” guidance document.

—Provide an MBDA Directory to the MBOC.

—Orient MBOC staff on administrative and other requirements.

—Provide and explain program reporting requirements and procedures, including OMB circulars and lessons learned from prior Federal audits.

—Identify available local resources that may enhance the capabilities of the MBOC.

—Provide information about MBDA's Phoenix-Opportunity database, and Performance system.

2. Networking, Promoting and Information Exchange

MBDA will provide the following:

—Access to the Portal.

—Promote the exchange of new business opportunity information within the MBDA-funded system.

—Help promote special events at the local, state and national levels in celebration of Minority Enterprise Development Week.

3. Project Monitoring

—Monitor the performance of the MBOC. This may include two (2) onsite reviews by the Regional Office at mutually agreeable times, or other internal reviews, to verify MBOC performance. MBDA will then provide a report of the findings and recommendations for improvement, if appropriate.

—Approve the selection of the MBOC Executive Director.

Application Forms and Package: The Application Package (AP) for this program consists of the following:

Section I—Federal Register Notice

Section II—Instruction for Preparing a Budget

Section III—Required Forms

Standard Forms 424, Application for Federal Assistance; 424A, Budget Information—Non-Construction Programs; 424B, Assurances—Non-Construction Programs; and SF-LLL (rev.7-97 if applicable); Department of Commerce Forms, CD-346, Applicant for Funding Assistance (if applicable); CD-511, Certifications Regarding Debarment, Suspension and Other Responsibility Matters; Drug-Free Workplace Requirements and Lobbying shall be used in applying for financial assistance. These forms may be obtained by (1) contacting MBDA as described in the FOR FURTHER INFORMATION CONTACT section above; (2) by downloading Standard Forms at http;//www.whitehouse.gov/OMB/grants/index; and (3) and Department of Commerce forms may be downloaded at http://www.doc.gov/forms.

Unsigned applications (SF-424) will be considered non-responsive and will be returned to the applicant. Failure to submit other required information may result in points being deducted from an applicant's score during the evaluation process. MBDA shall not accept any changes, additions, revisions or deletions to competitive applications after the closing date for receiving applications, except through a formal negotiation process.

Project Funding Priorities: MBDA is especially interested in receiving innovative proposals that focus on the following: (1) Identifying and working to eliminate barriers which reduce the access of MBEs to markets and capital; (2) promoting the understanding and use of Electronic Commerce by minority-owned businesses; and (3) increasing the number of contract awards and financial transactions (loans) to minority entrepreneurs.

Proposal Format

The structure of the proposal should contain the following headings, in the following order:

I. Table of Contents

II. Program Narrative

1. Applicant Capability

2. Techniques and Methodologies

3. Community Involvement/Resources

4. Creativity and Innovation

5. Proposed Budget/Costs

III. Forms

Pages of the proposal should be numbered consecutively.

Evaluation Criteria: Proposals will be evaluated in a Regional Office based on the following criteria:

(1) Applicant Capability (25%). Considers, among other things, knowledge of economic region, i.e., minority business demographics and an assessment of the community's need, prior experience in the minority-owned business community, and relationships (ties) with organizations from which members of the MBOC will be recruited. Includes an assessment of the number, qualifications, experience, and proposed roles of staff who will administer the MBOC program. Qualifications of the chairperson and executive director of the MBOC are particularly important. Position descriptions should be included as part of the application.

(2) Techniques and Methodologies (30%). Includes the applicant's plan on how to carry out the MBOC work requirements relating to activities in the eight core areas, the establishment and operation of the MBOC itself, and the applicant's proposed strategies for overcoming traditional barriers to the success of minority businesses. Each application must contain a detailed work plan that delineates a schedule of proposed activities and milestones for implementing the work requirements. Applicants must also include a description in their proposals showing how they intend to establish a detailed organizational and functional framework for the management, operation, and funding of the MBOC. For example, the applicant should indicate how a program will be developed to recruit members from Federal, state, local and private sector organizations; how the applicant intends to operate the MBOC in terms of meetings; and the establishment of subcommittees and the methodology for the selection of a chairperson and executive director to manage the MBOC on a day-to-day basis. The applicant must indicate how it intends to encourage member organizations to provide opportunities for MBEs and how it will track, validate and verify its performance goals. Each applicant will be rated according to the degree to which the proposed project will serve to reduce disparities. Reviewers will assess each application by examining evidence of community need and the applicant's proposed strategies for overcoming traditional barriers to market access. Disparities in market access must be clearly described and supported. Each application must propose strategies for reaching out to targeted groups. These strategies must tailor MBOC services to meet their specific needs. These strategies must also reflect an understanding of why the barriers exist, and show sensitivity for the learning mechanisms, attitudes, abilities, and customs of the community.

(3) Community Involvement/Resources (20%). Each application will be rated on the overall level of community involvement in the development of the project and the implementation of the proposed project. Reviewers will pay particular attention to the partnerships involved and the strength and diversity of support for the project within the community, and the support for the project's end users. The applicant must provide a detailed discussion relating its plan, identified under Techniques and Methodologies above, to the particular resources and business capabilities of its service area.

Community involvement must include the development of partnerships among the public, non-profit, or private sectors, as an integral part of each project. Partnerships must be clearly defined and mutually beneficial. The commitments (including both cash and in-kind contributions) must be well documented in the application. Partners are defined as organizations that supply cash or in-kind resources and/or play an active role in the planning and implementation of the project.

Reviewers will examine the steps the applicant has taken to involve a wide variety of community stakeholders in the planning of the projects and the plans for ongoing community involvement in the project. Each application should contain evidence of demand from the community, for the services proposed by the project.

(4) Creativity and Innovation (15%). Must include unique or novel approaches to solving the problems of minority-owned businesses, the manner in which activities are customized to meet the special economic needs of the MBOC's service area, and creativity in the way the applicant proposes to bring together the diverse components which are necessary for the success of the MBOC.

(5) Proposed Budget/Costs (10%). Includes the criteria of reasonableness, allowability, and allocability of costs. Cost sharing proposed by the applicant is also important, particularly if the applicant proposes cost sharing in excess of 25%. Reviewers will analyze the budget in terms of clarity and cost-effectiveness. The proposed budget must be appropriate to the tasks proposed and sufficiently detailed so that reviewers can easily understand the relationship of items in the budget to the product narrative.

An application must receive at least a 70% average score for all five criteria to be considered for funding.

Selection Procedures: Prior to the formal paneling process, each application will receive an initial screening to ensure that all required forms, signatures and other documentation are present. Each application will receive an independent, objective review by a panel qualified to evaluate the applications submitted. The independent review panel, consisting of at least three federal and/or non-federal individuals, will review all applications based on the criteria above. Each member of the independent review panel will individually evaluate and rank the proposals and submit its rankings and recommendation to the National Director. The National Director of MBDA then makes a recommendation to the Department of Commerce Grants Officer regarding the funding of applications, taking into account the following selection criteria:

(1) The evaluations and rankings of the independent review panel;

(2) The degree to which applications address MBDA priorities as established under the project funding priorities listed above;

(3) The availability of funds;

(4) The national geographic distribution of the proposed awards. (MBDA anticipates placing at least one MBOC in each of the Agency's five regions. These regions and the states comprising regional makeup are identified at http://www.mbda.gov.)

(5) The mixture of large and small economic regions/markets/cities. The amount of funds awarded to each recipient, the scope of programmatic activities, and clarifications and/or correction of errors will be determined and/or conducted in pre-award negotiations between the applicant, the Grants Officer, and the MBDA Program Officer.

Unsuccessful Competition

On occasion, competitive solicitations or competitive panels may produce less than optimum results, such as competition resulting in the receipt of no applications or competition resulting in all unresponsive applications received. If the competition results in the receipt of only one application, it may or may not require additional action from MBDA depending upon the competitive history of the area, the quality of the application received, and the time and cost limits involved. In the event that any or all of these conditions arise, MBDA shall take the most time and cost-effective approach available that is in the best interest of the Government. The approaches available are: (1) Re-competition or (2) Re-Paneling or (3) Negotiation.

Disposition of Unsuccessful Applicants

Upon the execution of an award by the Department of Commerce, MBDA will notify the unsuccessful applicants, in writing, indicating the winner of the award and indicating a 30-day timeframe in which to request return of the unsuccessful applications. Once this 30-day notice has lapsed, MBDA will destroy all unsuccessful applications.

Intergovernmental Review: Applications under this program are not subject to Executive Order 12372, “Intergovernmental Review of Federal Programs.”

Department of Commerce Pre-Award Notification Requirements for Grants and Cooperative Agreements

The Department of Commerce Pre-Award Notification Requirements for Grants and Cooperative Agreements contained in the Federal Register Notice of October 1, 2001 (66 FR 49917) are applicable to this solicitation. However, please note that the Department of Commerce will not implement the requirements of Executive Order 13202 (66 FR 49921), pursuant to guidance issued by the Office of Management and Budget in light of a court opinion which found that the Executive Order was not legally authorized. See Building and Construction Trades Department v. Allbaugh, 172 F. Supp. 2d 138 (D.D.C. 2001). This decision is currently on appeal. When the case is resolved, the Department will provide further information on implementation of Executive Order 13202.

Executive Order 12866. This notice was determined to be not significant for purposes of E.O. 12866.

Regulatory Flexibility Act. Because notice and comment are not required under 5 U.S.C. 553(a)(2), or any other law, for notices relating to public property, loans, grants, benefits or contracts, a Regulatory Flexibility Analysis, 5 U.S.C. 601 et seq., is not required and has not been prepared for this notice.

Paperwork Reduction Act. This document contains collection-of-information requirements subject to the Paperwork Reduction Act (PRA). The use of Standard Forms 424, 424A, 424B, SF-LLL, and CD-346 have been approved by OMB under the respective control numbers 0348-0043, 0348-0044, 0348-0040, and 0348-0046, and 0605-0001.

Notwithstanding any other provision of law, no person is required to respond to, nor shall any person be subject to a penalty for failure to comply with a collection of information subject to the Paperwork Reduction Act unless that collection displays a currently valid OMB Control Number.

Dated: September 11, 2002.
Ronald N. Langston,
National Director, Minority Business Development Agency.

[FR Doc. 02-23686 Filed 9-17-02; 8:45 am]

BILLING CODE 3510-21-P